DEPARTMENT OF ENERGY

Orders Granting Authority to Import and Export Natural Gas, and to Import Liquefied Natural Gas During April 2013

| FE Docket Nos.
NEXEN ENERGY MARKETING SERVICES NG U.S.A. INC. | 13-35-NG
APS-AMERICAN POWER SUPPLY, LLC | 13-38-LNG
CP ENERGY MARKETING (US) INC. | 13-39-NG
GAZ METRO SOLUTIONS TRANSPORT | 13-40-LNG
MIECO INC. | 13-41-NG
CASCADE NATURAL GAS CORPORATION | 13-43-NG
ENCANA MARKETING (USA) INC. | 13-44-NG
CITIGROUP ENERGY INC. | 13-45-LNG
CENTRA GAS MANITOBA INC. | 13-46-NG

AGENCY: Office of Fossil Energy, Department of Energy (DOE).

ACTION: Notice of orders.

SUMMARY: The Office of Fossil Energy (FE) of the Department of Energy gives notice that during April 2013, it issued orders granting authority to import and export natural gas and to import liquefied natural gas. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue, SW., Washington, DC 20585, (202) 586-9478. The Docket Room is open between the hours of 8:00 a.m. and 4:30 p.m., Monday through Friday, except Federal holidays.

Issued in Washington, DC, on May 29, 2013.
John A. Anderson,
Manager, Natural Gas Regulatory Activities, Office of Oil and Gas Global Security and Supply, Office of Fossil Energy.

Appendix—DOE/FE Orders Granting Import/Export Authorizations

Appendix—DOE/FE Orders Granting Import/Export Authorizations
Order No. | Date issued | FE Docket No. | Authorization holder | Description of action
3265 | 04/12/13 | 13-35-NG | Nexen Energy Marketing Services U.S.A. Inc | Order granting blanket authority to import/export natural gas from/to Canada/Mexico.
3266 | 04/12/13 | 13-38-LNG | APS-American Power Supply, LLC | Order granting blanket authority to import natural gas from Canada and to import LNG from various international sources by vessel.
3267 | 04/12/13 | 13-39-NG | CP Energy Marketing (US) Inc | Order granting blanket authority to import/export natural gas from/to Canada.
3268 | 04/12/13 | 13-40-LNG | Gaz Metro Solutions Transport | Order granting blanket authority to import LNG from Canada by truck.
3269 | 04/12/13 | 13-41-NG | Mieco Inc. | Order granting blanket authority to import/export natural gas from/to Canada.
3270 | 04/12/13 | 13-43-NG | Cascade Natural Gas Corporation | Order granting blanket authority to import natural gas from Canada.
3271 | 04/12/13 | 13-44-NG | Encana Marketing (USA) Inc. | Order granting blanket authority to import/export natural gas from/to Canada/Mexico.
3272 | 04/12/13 | 13-45-LNG | Citigroup Energy Inc. | Order granting blanket authority to import LNG from various international sources by vessel.
3273 | 04/12/13 | 11-46-NG | Centra Gas Manitoba Inc. | Order granting blanket authority to import/export natural gas from/to Canada.

[FR Doc. 2013-13789 Filed 6-10-13; 8:45 am]

BILLING CODE 6450-01-P